DEPARTMENT OF THE INTERIOR

National Park Service

[NPS-WASO-NAGPRA-NPS0036646; PPWOCRADN0-PCU00RP14.R50000]

Notice of Inventory Completion: Louisiana State University, Museum of Natural Science, Baton Rouge, LA

AGENCY: National Park Service, Interior.

ACTION: Notice of inventory completion.

SUMMARY: In accordance with the Native American Graves Protection and Repatriation Act (NAGPRA), Louisiana State University, Museum of Natural Science (LSUMNS) has completed an inventory of human remains and associated funerary objects and has determined that there is a cultural affiliation between the human remains and associated funerary objects and Indian Tribes or Native Hawaiian organizations in this notice. The human remains and associated funerary objects were removed from Iberville Parish, Louisiana.

DATES: Repatriation of the human remains and associated funerary objects in this notice may occur on or after October 30, 2023.

ADDRESSES: Dr. Rebecca Saunders, LSUMNS Division of Anthropology, 119 Foster Hall, LSU, Baton Rouge, LA 70803; telephone (225) 588-0909, email rsaunde@lsu.edu.

SUPPLEMENTARY INFORMATION: This notice is published as part of the National Park Service's administrative responsibilities under NAGPRA. The determinations in this notice are the sole responsibility of LSUMNS. The National Park Service is not responsible for the determinations in this notice. Additional information on the determinations in this notice, including the results of consultation, can be found in the inventory or related records held by LSUMNS.

Description

In 1940-1941, human remains representing, at a minimum, 19 individuals were removed from the Bayou Goula Mounds site (16IV011), in Iberville Parish, LA, by Edward Doran during an excavation undertaken as a joint project between Louisiana State University (LSU) and the Federal Works Project Administration. These human remains belong to eight adults, six juveniles, and five individuals of indeterminate age. Sex could not be determined for any of these individuals. The 56 associated funerary objects are 29 projectile points (one is a fragment), 10 brass/copper tinkling cones, two brass buttons (both broken on seam), one brass bell (missing clapper), nine historic glass beads, two tubular copper beads, two quartz crystals, and one lot consisting of sherds from a small Owens Punctuated vessel.

In 1977, human remains representing, at a minimum, one individual, were removed from the Bayou Goula/Mugulasha Village site (16IV134) in Iberville Parish, LA, by Glen Fredlund, during research for his M.A. thesis at LSU. In 2016, these remains were transferred from Fredlund's possession to the LSUMNS. The fragmentary cranial remains, which were found entangled among the roots of a fallen tree, belong to an adult of indeterminate sex. The 225 associated funerary objects are: 223 historic glass beads, one Florida cut crystal bead, and one cube of galena.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: anthropological, archeological, and historical.

Determinations

Pursuant to NAGPRA and its implementing regulations, and after consultation with the appropriate Indian Tribes and Native Hawaiian organizations, LSUMNS has determined that:

• The human remains described in this notice represent the physical remains of 20 individuals of Native American ancestry.

• The 281 objects described in this notice are reasonably believed to have been placed with or near individual human remains at the time of death or later as part of the death rite or ceremony.

• There is a relationship of shared group identity that can be reasonably traced between the human remains and associated funerary objects described in this notice and the Jena Band of Choctaw Indians; Mississippi Band of Choctaw Indians; and The Choctaw Nation of Oklahoma.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after October 30, 2023. If competing requests for repatriation are received, LSUMNS must determine the most appropriate requestor prior to repatriation. Requests for joint repatriation of the human remains and associated funerary objects are considered a single request and not competing requests. LSUMNS is responsible for sending a copy of this notice to the Indian Tribes identified in this notice.

Authority: Native American Graves Protection and Repatriation Act, 25 U.S.C. 3003, and the implementing regulations, 43 CFR 10.9, § 10.10, and § 10.14.

Dated: September 20, 2023.
Melanie O'Brien,
Manager, National NAGPRA Program.

[FR Doc. 2023-21245 Filed 9-27-23; 8:45 am]

BILLING CODE 4312-52-P